DEPARTMENT OF THE INTERIOR

Minerals Management Service

Environmental Documents Prepared for Proposed Oil and Gas Operations on the Gulf of Mexico Outer Continental Shelf (OCS)

AGENCY: Minerals Management Service, Interior.

ACTION: Notice of the Availability of Environmental Documents. Prepared for OCS Mineral Proposals on the Gulf of Mexico OCS.

SUMMARY: The Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment pursuant to NEPA section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/Operator | Location | Date
Anadarko Petroleum Corporation, Right-of-Way Pipeline Modification, SEA P-15101 | DeSoto Canyon, Blocks 621, 620, 664, 663, 707, 706, 705 & 749; Mississippi Canyon, Blocks 789, 833, 832, 876 & 920; located approximately 98 miles south of Gulf Shores, Alabama | 1/23/2007
Shell Offshore, Inc., Initial Development Operations Coordination Document, PEA N-8809 | Alaminos Canyon, Blocks 812, 813, 814 & 857, Leases OCS-G 24593, 17561, 20862, & 17565, located approximately 141.5 miles from the nearest Texas shoreline | 4/11/2007
ExxonMobil Corporation, Geological & Geophysical Exploration for Mineral Resources, SEA R-4717 | Located in the western Gulf of Mexico south of Galveston, Texas | 9/19/2007
Devon Energy Production Company, Well Stub Removal, SEA ES/SR APM MU A110-001 | Mustang Island, Block A 110, Lease OCS-G 21304, located 48 miles from the nearest Texas shoreline | 9/24/2007
Magnum Hunter Production, Inc., Well Stub Removal, SEA ES/SR APM WC 577-001 | West Cameron, Block 577, Lease OCS-G 23777, located 100 miles from the nearest Louisiana shoreline | 9/27/2007
Apache Corporation, Structure Removal, SEA ES/SR 06-150A | South Marsh Island, Block 95, Lease OCS 00790, located 99 miles from the nearest Louisiana shoreline | 10/01/2007
Chevron U.S.A., Inc., Geological & Geophysical Exploration for Mineral Resources, SEA R-4719 | Located in the western Gulf of Mexico south of Galveston, Texas | 10/03/2007
Palace Operating Company, Structure Removal, SEA ES/SR 07-106 | Mobile, Block 988, Lease OCS-G 25046, located 25 miles from the nearest Mississippi shoreline | 10/04/2007
Chevron U.S.A., Inc., Well Conductor Removal, SEA ES/SR APM WC 48-020 | West Cameron, Block 48, Lease OCS-G 01351, located 3 miles from the nearest Louisiana shoreline | 10/04/2007
Chevron U.S.A., Inc., Geological & Geophysical Exploration for Mineral Resources, SEA R-4725 | Located in the central Gulf of Mexico south of Morgan City, Louisiana | 10/05/2007
Fairfield Industries, Geological & Geophysical Exploration for Mineral Resources, SEA L07-46, L07-47, T07-18 | Located in the western & central Gulf of Mexico south of Cameron, Louisiana | 10/05/2007
Scripps Institution of Oceanography for University of California—San Diego, Geological & Geophysical Exploration for Mineral Resources, SEA T07-14, L07-40, L07-41 | Located in the western & central Gulf of Mexico south of Galveston, Texas; south of Fourchon, Louisiana; southeast of Venice, Louisiana, respectively | 10/10/2007
Chevron U.S.A., Inc., Structure Removal, SEA ES/SR 07-054, 07-055 | South Timbalier, Block 151, Lease OCS 00463, located 32 miles from the nearest Louisiana shoreline | 10/15/2007
Bois D'Arc Offshore, Ltd, Structure Removal, SEA ES/SR APM SS 114-032 | Ship Shoal, Block 114, Lease OCS-G 00064, located 15 miles from the nearest Louisiana shoreline | 10/15/2007
Helis Oil & Gas Company, Structure Removal, SEA ES/SR 07-108, 07-109, 07-110, 07-111 | Eugene Island, Block 56, Lease OCS-G 23857, located 22 miles from the nearest Louisiana shoreline | 10/16/2007
WesternGeco, LLC, Geological & Geophysical Exploration for Mineral Resources, SEA L07-45 | Located in the central Gulf of Mexico south of Fourchon, Louisiana | 10/19/2007
WesternGeco, LLC, Geological & Geophysical Exploration for Mineral Resources, SEA L07-52 | Located in the central Gulf of Mexico south of Fourchon, Louisiana | 10/19/2007
ExxonMobil Corporation, Geological & Geophysical Exploration for Mineral Resources, SEA R-4737 | Located in the central Gulf of Mexico south of Morgan City, Louisiana | 10/29/2007
Century Exploration New Orleans, Inc., Structure Removal, SEA ES/SR 07-112, 07-113 | Ship Shoal, Blocks 154 & 150, Lease OCS-00419, located 36 miles from the nearest Louisiana shoreline | 10/29/2007
BP America Production Company, Structure Removal, SEA ES/SR 07-114 | Grand Isle, Block 40, Lease OCS-G 00128, located 14 miles from the nearest Louisiana shoreline | 10/30/2007
Maritech Resources, Inc., Structure Removal, SEA ES/SR 06-033A | Eugene Island, Block 365, Lease OCS-G 13628, located 76 miles from the nearest Louisiana shoreline | 10/31/2007
Maritech Resources, Inc., Structure Removal, SEA ES/SR 07-116 | Eugene Island, Block 129, Lease OCS 00054, located 30 miles from the nearest Louisiana shoreline | 11/02/2007
Maritech Resources, Inc., Structure Removal, SEA ES/SR 07-115 | Ship Shoal, Block 299, Lease OCS-G 07759, located 62 miles from the nearest Louisiana shoreline | 11/02/2007
Maritech Resources, Inc., Structure Removal, SEA ES/SR 07-117 | Eugene Island, Block 129, Lease OCS-G 00054, located 24 miles from the nearest Louisiana shoreline | 11/05/2007
Freeport-McMoran Energy, LLC, Right-of-Way Pipeline Applications, SEA P-9314, P-9316, P-17013 & P-17272 | Main Pass, Block 299, Leases OCS-G 12362 & 01316, located approximately 14 to 16 miles from the nearest Louisiana shoreline | 11/07/2007
W & T Offshore, Inc., Structure Removal, SEA ES/SR 07-134, 07-135 | Eugene Island, Block 93, Lease OCS-00228, located 28 miles from the nearest Louisiana shoreline | 11/13/2007
CGG Veritas, Geological & Geophysical Prospecting for Mineral Resources, SEA T07-21 | Located in the central Gulf of Mexico south of Fourchon, Louisiana | 11/15/2007
BT Operating Company, Well Stub Removal, SEA ES/SR APM El 294-005 | Eugene Island, Block 294, Lease OCS-G 03569, located 100 miles from the nearest Texas shoreline | 11/19/2007
Energy Partners, Ltd, Structure Removal, SEA ES/SR 07-128 | East Cameron, Block 161, Lease OCS-G 15141, located 60 miles from the nearest Louisiana shoreline | 11/26/2007
Hydro Gulf of Mexico, LLC, Structure Removal, SEA ES/SR 07-125 | High Island (East Addition), Block 167, Lease OCS-G 22247, located 32 miles from the nearest Texas shoreline | 11/26/2007
Hydro Gulf of Mexico, LLC, Structure Removal, SEA ES/SR 07-119 | South Timbalier (South Addition), Block 212, Lease OCS-G 14538, located 52 miles from the nearest Louisiana shoreline | 11/26/2007
Apache Corporation, Structure Removal, SEA ES/SR 07-129 | Eugene Island, Block 175, Lease OCS-G 00438, located 42 miles from the nearest Louisiana shoreline | 11/28/2007
Hydro Gulf of Mexico, LLC, Structure Removal, SEA ES/SR 07-127 | Eugene Island, Block 213, Lease OCS-G 21639, located 65 miles from the nearest Louisiana shoreline | 11/28/2007
Hydro Gulf of Mexico, LLC, Structure Removal, SEA ES/SR 07-124 | High Island, Block 166, Lease OCS-G 06200, located 30 miles from the nearest Texas shoreline | 11/28/2007
Hydro Gulf of Mexico, LLC, Structure Removal, SEA ES/SR 07-121 | High Island, Block 202, Lease OCS-G 14870, located 29 miles from the nearest Texas shoreline | 11/28/2007
Hydro Gulf of Mexico, LLC, Structure Removal, SEA ES/SR 07-122 | High Island, Block 202, Lease OCS-G 14870, located 31 miles from the nearest Texas shoreline | 11/28/2007
TGS-NOPEC Geophysical Company, Geological & Geophysical Exploration for Mineral Resources, SEA M07-4 | Located in the central & eastem Gulf of Mexico south of Mobile, Alabama | 11/29/2007
Energy Partners, Ltd, Structure Removal, SEA ES/SR 07-130 | Matagorda Island, Block 639, Lease OCS-G 21305, located 50 miles from the nearest Texas shoreline | 11/29/2007
LLOG Exploration Offshore, Inc., Structure Removal, SEA ES/SR 07-75A | South Timbalier, Block 187, Lease OCS-G 21120, located 44 miles from the nearest Louisiana shoreline | 11/29/2007
BP America Production Company, Structure Removal, SEA ES/SR 06-065A | Grand Isle, Block 32, Lease OCS-00174, located 18 miles from the nearest Louisiana shoreline | 11/30/2007
Energy Partners, Ltd, Structure Removal, SEA ES/SR 07-131 | High Island, Block A6, Lease OCS-G 04734, located 34 miles from the nearest Louisiana shoreline | 11/30/2007
ATP Oil & Gas Corporation, Structure Removal, SEA ES/SR 07-136 | West Cameron, Block 143, Lease OCS-G 06572, located 24 miles from the nearest Louisiana shoreline | 11/30/2007
Apache Corporation, Structure Removal, SEA ES/SR 07-132 | West Delta, Block 133, Lease OCS-G 01106, located 35 miles from the nearest Louisiana shoreline | 11/30/2007
GX Technology Corporation, Geological & Geophysical Exploration for Mineral Resources, SEA L07-59 | Located in the central Gulf of Mexico south of Fourchon, Louisiana | 11/30/2007
BP America Production Company, Structure Removal, SEA ES/SR 07-105 | South Timbalier, Block 160, Lease OCS-G 04828, located 32 miles from the nearest Louisiana shoreline | 12/03/2007
BP America, Inc., Structure Removal, SEA ES/SR 07-107 | West Delta, Block 96, Lease OCS-G 01498, located 27 miles from the nearest Louisiana Shoreline | 12/05/2007
Apache Corporation, Well Stub Removal, SEA ES/SR APM EB 117-001 | Ewing Bank, Block 117, Lease OCS-G 14204, located 1,002 miles south of Galveston, Texas | 12/05/2007
Chevron U.S.A., Inc., Geological & Geophysical Exploration for Mineral Resources, SEA R-4752 | Located in the central Gulf of Mexico south of Fourchon, Louisiana | 12/05/2007
BP Exploration & Production, Inc., Geological & Geophysical Exploration for Mineral Resources, SEA R-4756 | Located in the central Gulf of Mexico south of Venice, Louisiana | 12/05/2007
Stone Energy Corporation, Structure Removal, SEA ES/SR 07-133 | Galveston, Block 213, Lease OCS-G 17120, located 12 miles from the nearest Texas shoreline | 12/06/2007
Maritech Resources, Inc., Structure Removal, SEA ES/SR 07-138, 07-139 | South Marsh Island, Block 233, Lease OCS-G 11929, located 20 miles from the nearest Louisiana shoreline | 12/06/2007
Energy Partners, Ltd, Structure Removal, SEA ES/SR 07-090A | High Island, Block 72, Lease OCS-G 22231, located 20 miles from the nearest Texas shoreline | 12/07/2007
Apache Corporation, Structure Removal, SEA ES/SR 07-132A | West Delta, Block 133, Lease OCS-G 01106, located 35 miles from the nearest Louisiana shoreline Location | 12/11/2007
Maritech Resources, Inc., Structure Removal, SEA 06-D35A | High Island, Block A-325, Lease OCS-G 02416, located 97 miles from the nearest Texas shoreline | 12/14/2007
Gryphon Exploration Company, Structure Removal, SEA ES/SR 07-140 | West Cameron, Block 43, Lease OCS-G 16107, located 8 miles from the nearest Louisiana shoreline | 12/14/2007
ATP Oil & Gas Corporation, Structure Removal, SEA ES/SR 07-141 | West Delta, Block 58, Lease OCS-G 00146, located 13 miles from the nearest Louisiana shoreline | 12/14/2007
Chevron U.S.A., Inc., Geological & Geophysical Exploration for Mineral Resources, SEA R-4761 | Located in the central Gulf of Mexico south of Fourchon, Louisiana | 12/19/2007
WesternGeco, LLC, Geological & Geophysical Exploration for Mineral Resources, SEA L07-76 | Located in the central Gulf of Mexico south of Fourchon, Louisiana | 12/19/2007
LLOG Exploration Offshore, Inc., Structure Removal, SEA ES/SR 07-156 | Eugene Island, Block 117, Lease OCS-G 24895, located 28 miles from the nearest Louisiana shoreline | 12/31/2007
LLOG Exploration Offshore, Inc., Structure Removal, SEA ES/SR 07-157 | Eugene Island, Block 76, Lease OCS-G 26022, located 21 miles from the nearest Louisiana shoreline | 12/31/2007
Energy Partners, Ltd, Structure Removal, SEA ES/SR 07-142 | High Island, Block A538, Lease OCS-G 18957, located 73 miles from the nearest Texas shoreline | 12/31/2007
Chevron U.S.A., Inc., Structure Removal, SEA ES/SR 07-158 | South Marsh Island, Block 217, Lease OCS-G 00310, located 7 miles from the nearest Louisiana shoreline | 12/31/2007

Persons interested in reviewing environmental documents for the proposals listed above or obtaining information about SEAs and FONSIs prepared for activities on the Gulf of Mexico OCS are encouraged to contact MMS at the address or telephone listed in the FOR FURTHER INFORMATION section.

Dated: January 24, 2008.
Lars Herbst,
Regional Director, Gulf of Mexico OCS Region.

[FR Doc. E8-4064 Filed 3-3-08; 8:45 am]

BILLING CODE 4310-MR-P